DEPARTMENT OF HEALTH AND HUMAN SERVICES

Centers for Disease Control and Prevention

Notice of Award of a Single-Source Grant To Fund Michigan State University (MSU)

AGENCY: Centers for Disease Control and Prevention (CDC), Department of Health and Human Services (HHS).

ACTION: Notice.

SUMMARY: The Centers for Disease Control and Prevention (CDC), located within the Department of Health and Human Services (HHS), announces the award of approximately $3.6 million funding with an expected total funding of approximately $18 million over a 5-year period to Michigan State University. The award will support activities related to the Flint Registry, a comprehensive public health registry of residents who were exposed to lead-contaminated water in Flint, Michigan.

DATES: The period for this award will be August 1, 2022, through July 31, 2023.

FOR FURTHER INFORMATION CONTACT: Alexis Pullia, M.P.H., C.P.H, National Center for Environmental Health (NCEH), Centers for Disease Control and Prevention, 4770 Buford Highway, Atlanta, GA 30341, Telephone: 770-488-3300, Email: leadinfo@cdc.gov.

SUPPLEMENTARY INFORMATION: The single-source award will support activities related to the existing public health registry of residents who were exposed to lead-contaminated water from the Flint Water System during April 25, 2014, to October 15, 2015. In Fiscal Year 2022, the activities are expected to include continued community, tribal, and stakeholder outreach and training; registrant enrollment via targeted outreach to eligible individuals and high risk individuals; data collection; referral of registrants to services to reduce or control lead exposure effects; measurement of registrants' exposure, health, developmental milestones with their interventions, services, and enrichment activities; follow-up of enrolled registry participants; and evaluation and dissemination of findings to share best practices.

Michigan State university is in a unique position to conduct this work, as it successfully collaborated with community partners to establish the registry through previous CDC grants and has an established relationship with the Flint community. Progress to date has been substantial since the registry's inception, and continued forward momentum depends on the continuity of the same team managing the registry.

Summary of the award:

Recipient: Michigan State University.

Purpose of the Award: The purpose of this award is to support activities related to the Flint Registry, a comprehensive public health registry of residents who were exposed to lead-contaminated water from the Flint water system during April 25, 2014, to October 15, 2015.

Amount of Award: $3.6 million in Federal Fiscal Year (FYY) 2022 funds, with a total estimated $18 million over the 5-year period of performance, subject to availability of funds.

Authority: This program is authorized under Section 2203(b) of Public Law 114-322, the Water Infrastructure Improvements for the Nation (WIIN) Act of 2016; 42 U.S.C. Section 300j-27(b).

Period of Performance: August 1, 2022, through July 27, 2027.

Dated: January 25, 2022.
Terrance Perry,
Chief Grants Management Officer, Centers for Disease Control and Prevention.

[FR Doc. 2022-01800 Filed 1-27-22; 8:45 am]

BILLING CODE 4163-18-P